DEPARTMENT OF TRANSPORTATION

Maritime Administration

Maintenance and Repair Reimbursement Pilot Program

AGENCY: Maritime Administration, Department of Transportation

ACTION: Notice of extension of application deadline.

SUMMARY: The Maritime Administration is hereby giving notice that the closing date for filing applications to enroll in the Maintenance and Repair Reimbursement Pilot Program is extended until October 30, 2007. The notice announcing the initial application deadline was published in the Federal Register on July 2, 2007 (72 FR 36103).

FOR FURTHER INFORMATION CONTACT: Jean E. McKeever, Associate Administrator for Business and Workforce Development, Maritime Administration, 1200 New Jersey Ave., SE., Washington, DC 20590; phone: (202) 366-5737; fax: (202) 366-3511; or e-mail: Jean.McKeever@dot.gov.

SUPPLEMENTARY INFORMATION: Section 3517 of the National Defense Authorization Act for fiscal year 2007 (Pub. L. 109-163) requires a person who is awarded a Maritime Security Program (“MSP”) agreement to also enter into an agreement with the Maritime Administration to perform maintenance and repair (“M&R”) work in United States shipyards as a condition of the MSP award. The Maritime Administration's M&R regulations do not apply the M&R condition to contractors who have already been awarded an M&R agreement. Thus, the Maritime Administration's M&R regulations make the M&R obligation mandatory on new awardees, including transferees, of MSP agreements, and voluntary for existing MSP contractors.

The John Warner National Defense Authorization Act for Fiscal Year 2007, (Pub. L. 109-364) grants a priority, during times of insufficient appropriations, in allocation of MSP payments to MSP contractors that have entered into M&R agreements. The M&R regulations were published in the Federal Register on February 6, 2007 (72 FR 5342-01), but did not specify a time period for submitting applications. In order to administer the priority provisions of Public Law 109-364, we need to close the application period.

(Authority: 49 CFR 1.66)

Dated: July 23, 2007.
By Order of the Maritime Administrator.
Daron T. Threet,
Secretary, Maritime Administration.

[FR Doc. E7-14636 Filed 7-27-07; 8:45 am]

BILLING CODE 4910-81-P